Proclamation 8388 of June 1, 2009

Great Outdoors Month, 2009

By the President of the United States of America

A Proclamation

The United States is blessed with unparalleled natural beauty. From remote forests to urban parks, these spaces have inspired visitors for generations. Today, these areas continue to raise the human spirit in those who experience them. During the month of June, I encourage Americans to pay tribute to and preserve the great outdoors.

Americans of all ages can find calm and enjoyment in our Nation’s vast outdoors. Those desiring quiet or solitude can explore one of our many National Parks, which offer tranquil and pristine surroundings. Those seeking recreation can also explore public lands, or they can simply run, bicycle, or fish in areas close to their homes. Whether near or far, the outdoors offers unique experiences.

Exploring the great outdoors can also help improve one’s health. These spaces provide countless venues for walking, hiking, running, swimming, and boating, among other activities. Americans can combine the enjoyment of being outside with the exercise we all need to stay healthy.

My Administration is working to connect America’s youth with our treasured landscapes, which should be viewed as classrooms for environmental education and gateways to careers in natural resources. These efforts will include outreach to those who typically lack representation in, and exposure to, these fields. The Department of the Interior is launching a summer mentoring initiative as part of this effort. This program invites families and friends to teach children about the joys and wonders of the outdoors. My Administration is also increasing the number of youth involved in national service on public lands. Through AmeriCorps and other programs and partnerships, we can continue our Nation’s proud tradition of service and respect for the environment.

Americans are fortunate to have so many beautiful natural wonders and open spaces. I encourage all in our Nation to enjoy these resources and to help protect them for future generations. Together, we can carry forward our Nation’s proud tradition of admiration and preservation of the great outdoors.

NOW, THEREFORE, I, BARACK OBAMA, President of the United States of America, by virtue of the authority vested in me by the Constitution and the laws of the United States, do hereby proclaim June 2009 as Great Outdoors Month. I encourage all Americans to spend more time outside and to participate in the nationwide events marking this occasion.

IN WITNESS WHEREOF, I have hereunto set my hand this first day of June, in the year of our Lord two thousand nine, and of the Independence of the United States of America the two hundred and thirty-third.

[FR Doc. E9-13283

Filed 6-3-09; 11:15 am]

Billing code 3195-W9-P